DEPARTMENT OF AGRICULTURE

Agricultural Marketing Service

[Doc. No. AMS-NOP-13-0061; NOP-13-05]

Notice of Funds Availability: Agricultural Management Assistance Organic Certification Cost-Share Program

AGENCY: Agricultural Marketing Service, USDA.

ACTION: Notice of Funds Availability: Inviting Grant Applications from State Departments of Agriculture for the Agricultural Management Assistance Organic Certification Cost-Share Program.

SUMMARY: This Notice invites the following 16 eligible States: Connecticut, Delaware, Hawaii, Maine, Maryland, Massachusetts, Nevada, New Hampshire, New Jersey, New York, Pennsylvania, Rhode Island, Utah, Vermont, West Virginia, and Wyoming, to submit a Grant Application (Application for Federal Assistance Standard Form 424) to the Agricultural Marketing Service (AMS) for organic certification cost-share funds. A total of $1,352,850 is available to the 16 designated States for this program in Fiscal Year 2013. Funds will provide cost-share assistance to organic crop and livestock producers certified under the USDA Organic Standards (7 CFR 205). Eligible States interested in obtaining cost-share funds for their organic producers must submit a grant application via http://www.grants.gov.

DATES: Grant applications must be received by the National Organic Program (NOP) no later than Friday, August 30, 2013.

ADDRESSES: Grant applications must be submitted via Grants.Gov. Paper applications will not be accepted. Instructions and additional information are available on the National Organic Program's Web site at http://www.ams.usda.gov/NOPCostSharing.

FOR FURTHER INFORMATION CONTACT: Rita Meade, Cost Share Coordinator, National Organic Program, USDA/AMS/NOP, Room 2648-South, Ag Stop 0268, 1400 Independence Avenue SW., Washington, DC 20250-0268; Telephone: (202) 720-3252. Email: Rita.Meade@ams.usda.gov.

SUPPLEMENTARY INFORMATION: This Organic Certification Cost-Share Program is part of the Agricultural Management Assistance (AMA) Program authorized under the Federal Crop Insurance Act (FCIA), as amended, (7 U.S.C. 1524). Under the applicable FCIA provisions, the Department is authorized to provide cost-share assistance to organic producers in the States of Connecticut, Delaware, Hawaii, Maine, Maryland, Massachusetts, Nevada, New Hampshire, New Jersey, New York, Pennsylvania, Rhode Island, Utah, Vermont, West Virginia, and Wyoming. The AMS has allocated $1,352,850 for this organic certification cost-share program in Fiscal Year 2013. This program provides financial assistance to organic producers certified under the USDA Organic Regulations (7 CFR part 205), which were authorized under the Organic Foods Production Act of 1990, as amended (7 U.S.C. 6501 et seq.).

To participate in the program, eligible States, through their State Departments of Agriculture, must complete an Application for Federal Assistance (Standard Form 424). State Department of Agriculture refers to agencies, commissions, or departments of State government responsible for implementing regulation, policy or programs on agriculture within their State. The program will provide cost-share assistance, through participating States, to organic crop and livestock producers receiving certification or incurring expenses for the continuation of certification by a USDA accredited certifying agent during the period of October 1, 2013 through September 30, 2014. The Department has determined that payments will be limited to 75% (seventy-five percent) of an individual producer's certification costs, up to a maximum of $750 (seven-hundred and fifty dollars).

To receive cost-share assistance, organic producers in participating States should contact their State agencies. Procedures for applying are outlined in the cost share policies and procedures at http://1.usa.gov/OrganicCostShare. The total amount of cost-share payments provided to any eligible producer under all AMA programs cannot exceed $50,000.

How to Submit Applications: To receive fund allocations to provide cost-share assistance, a State Department of Agriculture must complete an Application for Federal Assistance (Standard Form 424), and enter into a grant agreement with the AMS. Interested States must submit the Application for Federal Assistance (Standard Form 424) electronically via Grants.gov, the Federal grants Web site, at http://www.grants.gov. For information on how to use Grants.Gov, please consult http://www.grants.gov/GetRegistered. Applications must be filed by Friday, August 30, 2013. Grant agreements will be sent by the AMS to participating State Departments of Agriculture via express mail. The grant agreement must be signed by an official who has authority to apply for Federal assistance, and must be returned to the NOP at the address above by September 30, 2013.

The AMA Organic Certification Cost-Share Program is listed in the “Catalog of Federal Domestic Assistance” under number 10.171. Subject agencies must adhere to Title VI of the Civil Rights Act of 1964, which bars discrimination in all Federally-assisted programs. Additional information on the AMA Organic Certification Cost-Share Program can be found on the NOP's Web site at http://www.ams.usda.gov/NOPCostSharing.

Authority: 7 U.S.C. 1524

Dated: August 16, 2013.
Rex A. Barnes,
Associate Administrator, Agricultural Marketing Service.

[FR Doc. 2013-20484 Filed 8-21-13; 8:45 am]

BILLING CODE 3410-02-P